DEPARTMENT OF HOUSING AND URBAN DEVELOPMENT

[Docket No. FR-5828-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; COE: Mr. Scott Whiteford, Army Corps of Engineers, Real Estate, CEMP-CR, 441 G Street NW., Washington, DC 20314; (202) 761-5542; ENERGY: Mr. David Steinau, Department of Energy, Office of Property Management, OECM MA-50, 4B122, 1000 Independence Ave. SW., Washington, DC 20585 (202) 287-1503; INTERIOR: Mr. Michael Wright, Acquisition & Property Management, Department of the Interior, 3960 N. 56th Ave. #104, Hollywood, FL 33021; (443) 223-4639; NAVY: Mr. Steve Matteo, Department of the Navy, Asset Management; Division, Naval Facilities Engineering Command, Washington Navy Yard, 1330 Patterson Ave. SW., Suite 1000, Washington, DC 20374; (202) 685-9426; (These are not toll-free numbers).

Dated: December 3, 2015.
Brian P. Fitzmaurice,
Director, Division of Community Assistance, Office of Special Needs Assistance Programs.

TITLE V, FEDERAL SURPLUS PROPERTY PROGRAM FEDERAL REGISTER REPORT FOR 12/11/2015

Suitable/Available Properties

Land

Oklahoma

0.1 Acres of Land

Lake Eufaula

Lake Eufaula OK

Landholding Agency: COE

Property Number: 31201540002

Status: Unutilized

Comments: 100% of property occupied by unauthorized encroachment consisting of a portion of a residence and porch.

Unsuitable Properties

Building

California

Millerton Storage and Warehouse FRPP-R1785100600B

Friant CA 93626

Landholding Agency: Interior

Property Number: 61201540001

Status: Underutilized

Directions: 5390 Millerton Rd.

Comments: Documented deficiencies: Cracked foundation; deteriorated roof; structurally unsound; clear threat to personal physical safety.

Reasons: Extensive deterioration

Millerton Storage and

Warehouse FRPP R1785100400B

5390 Millerton Rd.

Friant CA 93626

Landholding Agency: Interior

Property Number: 61201540003

Status: Underutilized

Comments: Documented deficiencies: Exterior siding, roofing, entry, and windows all have significant damage; stress cracks on ceiling; structurally unsound.

Reasons: Extensive deterioration

Millerton Storage and

Warehouse Building—Building FRPP-

R1785100500B

Friant CA 93626

Landholding Agency: Interior

Property Number: 61201540004

Status: Underutilized

Directions: 5390 Millerton Rd.

Comments: Documented deficiencies: Exterior siding, roofing, entry, windows all have significant damage; inundated by rodents and received significant water damage on exterior walls and the roof.

Reasons: Extensive deterioration

4 Buildings

MCB Camp Pendleton

Camp Pendleton CA 92055

Landholding Agency: Navy

Property Number: 77201540013

Status: Excess

Directions: 12104; 12105; 12106; 12107

Comments: Public access denied and no alternative method to gain access without compromising national security.

Reasons: Secured Area

Colorado

Nelson Ranch House

Florissant Fossil Beds National Monument

Florissant CO 80316

Landholding Agency: Interior

Property Number: 61201540002

Status: Excess

Comments: Documented deficiencies: Structurally unsound; several holes in floors and walls; significant rodent infestation; clear threat to physical safety.

Reasons: Extensive deterioration

District of Columbia

Pot Storage Building

#NA24 (1230B00024)

US National Arboretum; 3501 New York Ave.

Washington DC 20002

Landholding Agency: Agriculture

Property Number: 15201540003

Status: Excess

Comments: Documented deficiencies: Structurally unsound; roof is collapsing; clear threat to physical safety.

Reasons: Extensive deterioration

Florida

5 Buildings

Naval Station Mayport

Jacksonville FL 32228

Landholding Agency: Navy

Property Number: 77201540012

Status: Excess

Directions: 50-547276; 161-547280; 163-67386; 437-547349; 1809A-67598

Comments: Public access denied and no alternative method to gain access without compromising national security.

Reasons: Secured Area

Tennessee

9949-68, Guard Booth

Bear Creek Road at Scarboro Road

Oak Ridge TN 37831

Landholding Agency: Energy

Property Number: 41201540002

Status: Unutilized

Comments: Public access denied and no alternative method to gain access without compromising national security.

Reasons: Secured Area

Land

Alabama

220 Acres of Land

Naval Air Station Whiting Field

Silverhill AL

Landholding Agency: Navy

Property Number: 77201540011

Status: Underutilized

Comments: Public access denied and no alternative method to gain access without compromising national security.

Reasons: Secured Area

[FR Doc. 2015-30911 Filed 12-10-15; 8:45 am]

BILLING CODE 4210-67-P